DEPARTMENT OF THE INTERIOR

Bureau of Land Management

[LLNVS01000.L58530000.ES0000 241A; N-54133-02; 14-08807; MO# 4500081704 TAS:14X5232]

Notice of Realty Action: Recreation and Public Purposes Lease (N-54133), Change of Use of Public Lands in Clark County, NV

AGENCY: Bureau of Land Management, Interior.

ACTION: Notice.

SUMMARY: In accordance with the Recreation and Public Purposes (R&PP) Act, the State of Nevada requests to change the use of a portion of a previously approved R&PP lease in Clark County, Nevada. The State of Nevada proposes to change the use of 20 acres of an R&PP lease from a park to a Department of Motor Vehicles (DMV) and Peace Officer Training Facility (POTF).

DATES: Interested parties may submit written comments regarding the change of use of the lands until October 26, 2015.

ADDRESSES: Send written comments to the BLM Las Vegas Field Office, 4701 N. Torrey Pines Drive, Las Vegas, Nevada 89130, or email: kthorpe@blm.gov.

FOR FURTHER INFORMATION CONTACT: Kerri-Anne Thorpe, 702-515-5196, or kthorpe@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The change of use requested by the State of Nevada is consistent with the BLM Las Vegas Resource Management Plan dated October 5, 1998, and would be in the public interest. The use by Clark County of the area subject to the request for a change of use area was previously analyzed under Environmental Assessment NV-050-0-8 dated July 16, 1986. A notice was published in the Federal Register on July 24, 1986 (51 FR 26604), to designate approximately 310 acres for use as a park site, under the R&PP Act. The lease was issued to Clark County on January 8, 1997. On May 13, 1991, Clark County relinquished 20 acres in their application to allow the State of Nevada to apply for an R&PP lease for a DMV and POTF. The BLM approved the State of Nevada application, but failed to process a change of use for the parcel. The State of Nevada now requests that the BLM change the use of the 20 acres of the R&PP lease from a park to a DOTF and POTF so that they may purchase these lands that are currently used under a lease. Environmental Assessment NV-054-092-42 was prepared on October 30, 1991, to review this proposed change in use. The parcel of land is located on the corner of Flamingo Road and South Cimmaron Road in Las Vegas, Nevada, and is legally described as:

Mount Diablo Meridian, Nevada

T. 21 S., R. 60 E.,

Sec. 16, E½SE¼SW¼.

The change of use area described contains 20 acres.

The change of use area from a park site to a DMV and POTF will consist of a full service DMV building and a Peace Officer Standards and Training Facility building with related facilities. Related facilities include a warehouse, motorcycle test course, parking lots, landscaping, lighting, walkways, drainage, irrigation, restrooms, concessions, utilities and ancillary improvements. Additional detailed information pertaining to this application, plan of development, and site plan is in case file N-54133, which is located at the BLM, Las Vegas Field Office at the address listed above.

The land is not required for any other Federal purpose. The change of use of 20 acres from a park site to a DMV and POTF is consistent with the BLM Las Vegas Resource Management Plan dated October 5, 1998, and would be in the public interest. The State of Nevada, a qualified applicant under the R&PP Act, has not applied for more than the 6,400-acre limitation consistent with the regulation at 43 CFR 2741.7(a)(1), and has submitted a statement in compliance with the regulation at 43 CFR 2741.4(b).

The change of use of the public land shall be subject to valid existing rights as previously published. Upon publication of this notice in the Federal Register, the land described above will be segregated from all other forms of appropriation under the public land laws, including the general mining laws, except for lease and/or subsequent conveyance under the R&PP Act, leasing under the mineral laws, and disposals under the mineral material disposal laws.

Interested parties may submit written comments on the suitability of the land for use as a DMV and POTF. Interested parties may also submit written comments regarding the specific use proposed in the application and plan of development, and whether the BLM followed proper administrative procedures in reaching the decision to change the use from a park to a DMV and POTF under the R&PP Act, or any other factor not directly related to the suitability of the land for R&PP use.

Before including your address, phone number, email address, or other personal identifying information in your comment, you should be aware that your entire comment-including your personal identifying information—may be made publicly available at any time. While you can ask us in your comment to withhold your personal identifying information from public review, we cannot guarantee that we will be able to do so.

Any adverse comments will be reviewed by the BLM Nevada State Director or other authorized official of the Department of the Interior, who may sustain, vacate, or modify this realty action. In the absence of any adverse comments, the decision will become effective on November 9, 2015.

Authority: 43 CFR 2741.5(h).

Vanessa L. Hice,
Assistant Field Manager, Las Vegas Field Office.

[FR Doc. 2015-22644 Filed 9-8-15; 8:45 am]

BILLING CODE 4310-HC-P